CORPORATION FOR NATIONAL AND COMMUNITY SERVICE

45 CFR Part 2522

Americorps Participants, Programs, and Applicants

CFR Correction

In Title 45 of the Code of Federal Regulations, Part 1200 to End, revised as of October 1, 2010, on page 674, in § 2522.910, paragraph (b)(1)(ii) is removed.

[FR Doc. 2011-7439 Filed 3-28-11; 8:45 am]

BILLING CODE 1505-01-D